DEPARTMENT OF THE INTERIOR

Bureau of Land Management

[CACA 14340]

Public Land Order No. 7679; Extension of Public Land Order No. 6652; California

AGENCY: Bureau of Land Management, Department of the Interior.

ACTION: Public Land Order.

SUMMARY: This order extends the withdrawal created by Public Land Order No. 6652 for an additional 20-year period. This extension is necessary to continue protection of the Petersburg Administrative Site in Siskiyou County.

DATES: Effective Dates: July 22, 2007.

FOR FURTHER INFORMATION CONTACT: Duane Marti, BLM, California State Office, 2800 Cottage Way, Sacramento, California 95825, 916-978-4675.

Order

By virtue of the authority vested in the Secretary of the Interior by section 204 of the Federal Land Policy and Management Act of 1976, 43 U.S.C. 1714 (2000), it is ordered as follows:

1. Public Land Order No. 6652 (52 FR 27552), which withdrew 30 acres of National Forest System land within the Klamath National Forest from the mining laws to protect the Petersburg Administrative Site, is hereby extended for an additional 20-year period.

2. Public Land Order No. 6652 will expire on July 21, 2027, unless, as a result of a review conducted prior to the expiration date pursuant to section 204(f) of the Federal Land Policy and Management Act of 1976, 43 U.S.C. 1714(f) (2000), the Secretary determines that the withdrawal shall be extended.

Dated: July 3, 2007.
C. Stephen Allred,
Assistant Secretary—Land and Minerals Management.

[FR Doc. E7-15623 Filed 8-9-07; 8:45 am]

BILLING CODE 3410-11-P